DEPARTMENT OF TRANSPORTATION

Federal Aviation Administration

Public Notice for Intent To Release Airport Property

AGENCY: Federal Aviation Administration (FAA), DOT.

ACTION: Notice of intent to rule on request to release airport property; Palmer Municipal Airport (PAQ), Palmer, Alaska.

SUMMARY: The FAA proposes to rule and invites public comment on the release of land at the Palmer Municipal Airport, Palmer, Alaska.

DATES: Comments must be received on or before December 26, 2018.

ADDRESSES: Documents are available for review by appointment at the FAA Anchorage Airports Regional Office, Molly Lamrouex, Compliance Manager, 222 W 7th Avenue, Anchorage, AK. Telephone: (907) 271-5439/Fax: (907) 271-2851 and the City of Palmer, 231 W Evergreen, Palmer, AK 99645. Telephone: (907) 761-1334.

Written comments on the Sponsor's request must be delivered or mailed to: Molly Lamrouex, Compliance Manager, Federal Aviation Administration, Airports Anchorage Regional Office, 222 W 7th Avenue, Anchorage AK 99513, Telephone Number: (907) 271-5439/FAX Number: (907) 271-2851.

FOR FURTHER INFORMATION CONTACT: Molly Lamrouex, Compliance Manager, Federal Aviation Administration, Alaskan Region Airports District Office, 222 W 7th Avenue, Anchorage, AK 99513. Telephone Number: (907) 271-5439/FAX Number: (907) 271-2851.

SUPPLEMENTARY INFORMATION: The FAA invites public comment on the request to release the aeronautical use only grant provision on four lease lots at the Palmer Airport (PAQ) under the provisions of 49 U.S.C. 47107(h)(2). The City of Palmer has requested from the FAA that approximately 13.07 acres of airport property west of Cope Industrial Way be released for non-aeronautical uses. The FAA has determined that the release of the property will not impact future aviation needs at the airport. The FAA may approve the request, in whole or in part, no sooner than 30 days after the publication of this notice.

The disposition of proceeds from the non-aeronautical leases of the airport property will be in accordance with FAA's Policy and Procedures Concerning the Use of Airport Revenue, published in the Federal Register on February 16, 1999 (64 FR 7696).

Issued in Anchorage, Alaska, on October 30, 2018.
Kristi Warden,
Acting Director, Alaskan Airports Regional Office, FAA, Alaskan Region.

[FR Doc. 2018-25577 Filed 11-23-18; 8:45 am]

BILLING CODE 4910-13-P